DEPARTMENT OF DEFENSE

Department of the Army, Corps of Engineers

Extension of Comment Period for Notice of Intent To Prepare a Supplemental Environmental Impact Statement for the Matagorda Ship Channel Improvement Project, Calhoun and Matagorda Counties, TX

AGENCY: Corps of Engineers, Department of the Army, DoD.

ACTION: Extension of comment period for notice of intent to prepare a draft supplemental environmental impact statement for the Matagorda Ship Channel Improvement Project, Calhoun and Matagorda Counties, TX.

SUMMARY: The Galveston District, U.S. Army Corps of Engineers (USACE) intends to prepare a Draft Supplemental Environmental Impact Statement (SEIS) for the Matagorda Ship Channel Improvement Project consistent with the National Environmental Policy Act of 1969 (NEPA). While a Record of Decision (ROD) for this project was signed on April 22, 2020, during the pre-construction engineering and design (PED) phase, USACE identified a discrepancy between its current calculations on the quantity of material to be dredged from the Matagorda Ship Channel and the quantity reflected in the ROD. Due to the discrepancy, USACE will prepare a SEIS to document and disclose the impacts of substantial changes to the proposed action and new information that are relevant to environmental concerns. By publication of this NOI, USACE is extending the scoping period and accepting comments due to a previously published incorrect email address.

DATES: Public scoping comments should be submitted on or before September 5, 2023, electronically or mailed as written letters.

ADDRESSES: Submit all electronic public comments via email to MSC_SEIS@usace.army.mil. Written comments may be mailed to U.S. Army Corps of Engineers, Galveston District, ATTN: Matagorda Ship Channel Improvement Project, P.O. Box 1229, Galveston, TX 77553-1229.

Pertinent information about the study can be found at: https://www.swg.usace.army.mil/Projects/Matagorda-Ship-Channel/.

FOR FURTHER INFORMATION CONTACT: Questions or comments regarding the proposed Draft SEIS can be addressed by contacting Franchelle Nealy by phone at (409) 766-3187, emailing at MSC_SEIS@usace.army.mil, or mailed to U.S. Army Corps of Engineers, Galveston District, ATTN: Matagorda Ship Channel Improvement Project, P.O. Box 1229, Galveston, TX 77553-1229.

SUPPLEMENTARY INFORMATION:

Extension of Comment Period. On June 2, 2023, a Notice of Intent (NOI) was published in the Federal Register for a 30-day scoping period for the MSCIP SEIS (88 FR 36285). However, it was brought to USACE's attention that one of the email addresses provided in the June 2, 2023 NOI and the June 7, 2023 scoping meeting invitation and meeting materials was incorrect. Emails sent to the incorrect address may not have been received; those who submitted comments are welcome to resubmit them. This notice also announces USACE intent to seek public input on the scope of the SEIS, information, or topics to be addressed, and public concerns surrounding the proposed action. A public meeting was held on June 7, 2023 in Port Lavaca, TX. Comments received during the June scoping period in addition to this additional scoping period, will be considered during development of the SEIS. The extension of the comment period ends on September 5, 2023.

Public Disclosure Statement. If you wish to comment, you may use the mail or email your comments as indicated under the ADDRESSES section of this notice. Before including your address, phone number, email address, or any other personal identifying information in your comment, you should be aware that your entire comment—including your personal identifying information—may be made available to the public at any time. While you can request in your comment for us to withhold your personal identifying information from public review, we cannot guarantee that we will be able to do so.

Wesley E. Coleman, Jr.,
Programs Director, Southwestern Division.

[FR Doc. 2023-16677 Filed 8-3-23; 8:45 am]

BILLING CODE 3720-58-P